DEPARTMENT OF DEFENSE

Department of the Air Force

Notice of Intent To Prepare a Legislative Environmental Impact Statement and Notice of Cancellation of Scoping Meetings for the Proposed Extension of the Military Land Withdrawal at Barry M. Goldwater Range, Arizona

AGENCY: Department of the Air Force and United States Marine Corps, Department of Defense.

ACTION: Amended notice of intent.

SUMMARY: The United States Air Force (USAF) (co-lead agency), in coordination with the United States Marine Corps (USMC) (co-lead agency), is issuing this amended notice to advise the public of the continuing intent to prepare a Legislative Environmental Impact Statement (LEIS) for the proposed extension of the Barry M. Goldwater Range (BMGR) land withdrawal and reservation in Arizona. The LEIS will also address a proposal to withdrawal approximately 2,366 acres of additional public land adjacent to Gila Bend Air Force Auxiliary Airfield to enhance the security and safety of flight operations at the airfield. However, as a direct result of the National Emergency declared by the President on Friday, March 13, 2020, in response to the coronavirus (COVID-19) pandemic in the United States and the Center for Disease Control's recommendations for social distancing and avoiding large public gatherings, the Air Force is now canceling five public scoping meetings between April 9, 2020 and April 30, 2020. In lieu of the public scoping meetings, the Air Force will use the alternative means set forth below to inform the public and stakeholders and to obtain input for scoping the proposed action.

ADDRESSES: Information on the BMGR land withdrawal and the LEIS process can be accessed at the project website at www.barry-m-goldwater-leis.com. The project website can also be used to submit comments. In the alternative, interested persons may submit written comments by mail or email. For those who do not have ready access to a computer or the internet, the scoping-related materials posted to the website will be made available upon request by mail or phone. Inquiries, requests for scoping-related materials, and comments regarding the USAF/USMC proposal may be submitted by mail to BMGR Land Withdrawal LEIS, P.O. Box 2324, Phoenix, AZ 85003, or email to BMGR_LEIS@jacobs.com, or by phone to Mr. Jon Haliscak at 210-395-0615.

Written scoping comments will be accepted at any time during the environmental impact analysis process up until the public release of the Draft EIS. However, to ensure the Air Force and Marine Corps have sufficient time to consider public input in the preparation of the Draft LEIS, scoping comments must be submitted to the website or mailed to one of the addresses listed above no later than June 3, 2020.

SUPPLEMENTARY INFORMATION: The current BMGR land withdrawal and reservation expires in October 2024. In accordance with the Military Lands Withdrawal Act of 1999, the USAF and USMC have notified Congress of a continuing military need for the BMGR. National defense land withdrawal applications have been prepared and submitted to the Bureau of Land Management (BLM) in accordance with the Federal Land Policy and Management Act of 1976.

Purpose and Need for the Proposed Action: The purpose of extending the BMGR land withdrawal and reservation is to retain one of the nation's premier ranges for training tactical air-combat aircrews and other military personnel to fight, survive, and win in the air-ground battlespace, including development and testing of tactics. The readiness of air and ground forces is dependent on the quantity and quality of tactics development/testing and training that warfighters receive, which, in turn, is reliant on the capacities and capabilities of the ranges available to support their training. The BMGR's attributes of favorable location and flying weather, suitable land and airspace, diverse terrain, and developed training support facilities make it one of the most capable and productive tactical aviation ranges available to U.S. forces, and critical to supporting essential training both now and into the foreseeable future.

Description of the Proposed Action and Alternatives: The LEIS will analyze various alternatives for extending authorization for the BMGR. Preliminary alternatives have been developed. Comments received during scoping may result in changes or additions to these alternatives.

Alternative 1 would reauthorize the existing land withdrawal and management of BMGR for another 25 years. The USAF and USMC would continue to manage the withdrawn public lands in BMGR East and BMGR West, respectively. The USAF and USMC, through the Offices of the Secretary of the Air Force (SECAF) and Secretary of the Navy (SECNAV), would continue to consult with the Secretary of the Department of the Interior (SECDOI) before using the BMGR for non-reserved purposes. The existing boundary and land area of the BMGR, which encompasses approximately 1,733,921 acres, would not change. Alternative 1A would implement Alternative 1 except the period of withdrawal would be for another 50 years. Alternative 1B would implement Alternative 1 except the withdrawal would be for an indefinite period until the BMGR is no longer needed by the USAF and USMC. Alternative 1C would permanently transfer administrative jurisdiction of the lands comprising BMGR East and BMGR West to SECAF and SECNAV, respectively. Alternative 2 would reauthorize the existing land withdrawal and management of BMGR for another 25 years, but the BMGR East boundary would be extended to include the Gila Bend Addition, an area contiguous to and south of the Gila Bend Air Force Auxiliary Field that consists of approximately 2,366 acres of federal public land. USAF and USMC would continue to manage the withdrawn public lands in BMGR East and BMGR West, respectively. The SECAF and SECNAV would continue to consult with the SECDOI before using the BMGR for non-reserved purposes. Alternative 2A would implement Alternative 2 except the period of withdrawal would be for another 50 years. Alternative 2B would implement Alternative 2 except the withdrawal would be for an indefinite period until the BMGR is no longer needed by the USAF and USMC. Alternative 2C would permanently transfer administrative jurisdiction of the lands comprising BMGR East and the Gila Bend Addition to SECAF and BMGR West to SECNAV. The No Action alternative would consist of Congress not extending the land withdrawal, and the current land withdrawal and reservation would expire in October 2024. Military training and testing use of the range surface would end, including missions involving live-fire use of air-to-air, air-to-ground, ground-to-ground, or ground-to-air munitions. If Congress declines to extend the withdrawal and reservation of the BMGR, responsibility for the formerly withdrawn public lands in the BMGR would revert to Department of the Interior.

Brief Summary of Expected Impacts: The LEIS will consider potential impacts to land use, airspace, safety, noise, hazardous materials and waste, earth resources, water resources, air quality, transportation, wilderness and wilderness study areas, cultural resources, biological resources, socioeconomics, environmental justice, and any additional resources or alternatives identified through the scoping process.

Scoping and Agency Coordination: The scoping process will be used to involve the public early in the planning and development of the EIS, to help identify issues to be addressed in the environmental analysis. To effectively define the full range of issues and concerns to be evaluated in the LEIS, the USAF and USMC are soliciting scoping comments from interested local, state, and federal agencies, Native American tribes, and interested members of the public. As a direct result of the National Emergency declared by the President on Friday, March 13, 2020, in response to the coronavirus (COVID-19) pandemic in the United States and the Center for Disease Control's recommendations for social distancing and avoiding large public gatherings, the Air Force has canceled the five public scoping meetings previously scheduled to occur between April 9, 2020 and April 30, 2020. This amended notice of intent cancelling the five previously scheduled public scoping meetings will also be published in the Arizona Daily Star (Tucson), Ajo Copper News, Gila Bend Sun, Arizona Republic (Phoenix metropolitan area), Casa Grande Dispatch, The Glendale Star, Yuma Sun, Baja El Sol (Yuma), La Voz (Phoenix), and The Runner (Tohono O'odham Nation) newspapers.

Adriane Paris,
Acting Air Force Federal Register Liaison Officer.

[FR Doc. 2020-06568 Filed 3-27-20; 8:45 am]

BILLING CODE 5001-10-P